NUCLEAR REGULATORY COMMISSION

[NRC-2014-0183]

Laboratory Investigations of Soils and Rocks for Engineering Analysis and Design of Nuclear Power Plants

AGENCY: Nuclear Regulatory Commission.

ACTION: Draft regulatory guide; request for comment.

SUMMARY: The U.S. Nuclear Regulatory Commission (NRC) is issuing for public comment draft regulatory guide (DG), DG-1256, “Laboratory Investigations of Soils and Rocks for Engineering Analysis and Design of Nuclear Power Plants.” This guide describes a method that the NRC staff considers acceptable for use in the laboratory testing of soils and rocks needed to confirm the design and safety of nuclear power plants.

DATES: Submit comments by October 3, 2014. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specific subject):

• Federal Rulemaking Web site: Go to http://www.regulations.gov and search for Docket ID NRC-2014-0183. Address questions about NRC dockets to Carol Gallagher; telephone: 301-287-3422; email: Carol.Gallagher@nrc.gov. For technical questions, contact the individual(s) listed in the FOR FURTHER INFORMATION CONTACT section of this document.

• Mail comments to: Cindy Bladey, Office of Administration, Mail Stop: 3WFN 6A-44M, U.S. Nuclear Regulatory Commission, Washington, DC 20555-0001.

For additional direction on accessing information and submitting comments, see “Accessing Information and Submitting Comments” in the SUPPLEMENTARY INFORMATION section of this document.

FOR FURTHER INFORMATION CONTACT: Scott Stovall, telephone: 301-251-7922, email: scott.stoval@nrc.gov or Edward O'Donnell, telephone: 301-251-7455, email: edward.odonnell@nrc.gov. Both of the Office of Nuclear Regulatory Research, U.S. Nuclear Regulatory Commission, Washington, DC 20555-0001.

SUPPLEMENTARY INFORMATION:

I. Obtaining Information and Submitting Comments

A. Obtaining Information

Please refer to Docket ID NRC-2014-0183 when contacting the NRC about the availability of information regarding this document. You may obtain publicly-available information related to this document by any of the following methods:

• Federal Rulemaking Web site: Go to http://www.regulations.gov and search for Docket ID NRC-2014-0183.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft regulatory guide is available electronically in ADAMS under Accession Number ML13186A032. The regulatory analysis may be found in ADAMS under Accession No. ML13186A034.

• NRC's PDR: You may examine and purchase copies of public documents at the NRC's PDR, Room O1-F21, One White Flint North, 11555 Rockville Pike, Rockville, Maryland 20852.

Regulatory guides are not copyrighted, and NRC approval is not required to reproduce them.

B. Submitting Comments

Please include Docket ID NRC-2014-0183 in the subject line of your comment submission, in order to ensure that the NRC is able to make your comment submission available to the public in this docket.

The NRC cautions you not to include identifying or contact information that you do not want to be publicly disclosed in your comment submission. The NRC will post all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC will not edit comment submissions to remove such information before making the comment submissions available to the public or entering the comment submissions into ADAMS.

II. Additional Information

The NRC is issuing for public comment a DG in the NRC's “Regulatory Guide” series. This series was developed to describe and make available to the public such information as methods that are acceptable to the NRC staff for implementing specific parts of the NRC's regulations, techniques that the staff uses in evaluating specific problems or postulated accidents, and data that the staff needs in its review of applications for permits and licenses.

The DG, entitled, “Laboratory Investigations of Soils and Rocks for Engineering Analysis and Design of Nuclear Power Plants,” is proposed revision 3 of Regulatory Guide 1.138, dated December 2003, and it is temporarily identified by its task number, DG-1256. This DG describes laboratory investigations and testing practices acceptable to the NRC staff for determining soil and rock properties and characteristics needed for engineering analysis and design of foundations and earthworks for nuclear power plants. The DG was revised to reflect changes in standards for testing procedures developed since 2003, and at the same time, the guide was re-formatted. The most significant change is in Section C.6.3, “Resonant Column Tests,” which provides an alternative method for resonant column and torsional shear testing of soil and rock samples.

III. Backfitting and Issue Finality

Issuance of this DG in final form does not constitute backfitting as defined in 10 CFR 50.109 (the Backfit Rule) and is not otherwise inconsistent with the issue finality provisions in 10 CFR part 52. This DG would not apply to any construction permits, operating licenses, early site permits, limited work authorizations already issued under 10 CFR 50.10 for which the NRC issued a final environmental impact statement (EIS) preceded by a draft EIS under 10 CFR 51.76 or 51.75, or combined licenses, any of which were issued by the NRC prior to issuance of the final regulatory guide. The NRC has already completed its siting determination for those construction permits, operating licenses, early site permits, limited work authorizations, and combined licenses. Therefore, no further NRC regulatory action on siting will occur for those licenses, permits, and authorizations, for which the guidance in the DG would be relevant, absent voluntary action by the licensees (e.g., license amendment, exemption request). Testing of soils and rocks for engineering analysis and design activities may be performed consistent with the licensing basis for each permit and license with respect to such testing; and need not comply with this regulatory guide. However, when a licensee or holder of an NRC regulatory approval voluntarily seeks a change to its license or regulatory approval for which new soils or rock testing is necessary and essential consideration of the NRC's evaluation of the change's acceptability, then the NRC may condition its approval on the licensee's or holder's agreement to conduct the soil or rock testing in accordance with the guidance in the DG (if finalized).

Once finalized, the guidance in this regulatory guide may be applied to applications for early site permits, combined licenses, and limited work authorizations issued under 10 CFR 50.10 (including information under 10 CFR 51.49(b) or (f)), any of which are docketed and under review by the NRC as of the date of issuance of the final regulatory guide. The guidance in this regulatory guide may also be applied to applications for construction permits, early site permits, combined licenses, and limited work authorizations (including information under 10 CFR 51.49(b) or (f)), any of which are submitted after the issuance of the final regulatory guide. Such action does not constitute backfitting as defined in 10 CFR 50.109(a)(1) and is not otherwise inconsistent with the applicable issue finality provisions in 10 CFR part 52. Applicants and potential applicants are not, with certain exceptions, protected by either the Backfit Rule or any issue finality provisions under part 52. Neither the Backfit Rule nor the issue finality provisions under part 52—with certain exclusions discussed below—were intended to every NRC action which substantially changes the expectations of current and future applicants.

Dated at Rockville, Maryland, this 30th day of July, 2014.
For the Nuclear Regulatory Commission.
Thomas H. Boyce,
Chief, Regulatory Guidance and Generic Issues Branch, Division of Engineering, Office of Nuclear Regulatory Research.

[FR Doc. 2014-18303 Filed 8-1-14; 8:45 am]

BILLING CODE 7590-01-P